DEPARTMENT OF COMMERCE

National Oceanic and Atmospheric Administration

RIN 0648-XE668

Taking and Importing Marine Mammals; Taking Marine Mammals Incidental to Hilcorp Alaska, LLC Oil and Gas Activities in Cook Inlet, Alaska

AGENCY: National Marine Fisheries Service (NMFS), National Oceanic and Atmospheric Administration (NOAA), Commerce.

ACTION: Notice; receipt of application for Letter of Authorization; request for comments and information.

SUMMARY: NMFS has received a request from the Hilcorp Alaska, LLC (Hilcorp) for authorization to take small numbers of marine mammals incidental to oil and gas activities in Cook Inlet, Alaska, over the course of five years from the date of issuance. Pursuant to regulations implementing the Marine Mammal Protection Act (MMPA), NMFS is announcing receipt of Hilcorp's request for the development and implementation of regulations governing the incidental taking of marine mammals. NMFS invites the public to provide information, suggestions, and comments on Hilcorp's application and request.

DATES: Comments and information must be received no later than April 14, 2025.

ADDRESSES: Comments on the applications should be addressed to Jolie Harrison, Chief, Permits and Conservation Division, Office of Protected Resources, National Marine Fisheries Service and should be submitted via email to itp.tyson.moore@noaa.gov. An electronic copy of the application may be obtained online at: https://www.fisheries.noaa.gov/national/marine-mammal-protection/incidental-take-authorizations-oil-and-gas. In case of problems accessing these documents, please call the contact listed below.

Instructions: NMFS is not responsible for comments sent by any other method, to any other address or individual, or received after the end of the comment period. Comments, including all attachments, must not exceed a 25-megabyte file size. Attachments to electronic comments will be accepted in Microsoft Word or Excel or Adobe PDF file formats only. All comments received are a part of the public record and will generally be posted online at https://www.fisheries.noaa.gov/national/marine-mammal-protection/incidental-take-authorizations-oil-and-gas without change. All personal identifying information (e.g., name, address) voluntarily submitted by the commenter may be publicly accessible. Do not submit confidential business information or otherwise sensitive or protected information.

FOR FURTHER INFORMATION CONTACT: Reny Tyson Moore, Office of Protected Resources, NMFS, (301) 427-8401.

SUPPLEMENTARY INFORMATION:

Background

Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed authorization is provided to the public for review.

An incidental take authorization shall be granted if NMFS finds that the taking will have a negligible impact on the species or stock(s), will not have an unmitigable adverse impact on the availability of the species or stock(s) for subsistence uses (where relevant), and if the permissible methods of taking and requirements pertaining to the mitigation, monitoring and reporting of such takings are set forth.

NMFS has defined “negligible impact” in 50 CFR 216.103 as an impact resulting from the specified activity that cannot be reasonably expected to, and is not reasonably likely to, adversely affect the species or stock through effects on annual rates of recruitment or survival. The MMPA states that the term “take” means to harass, hunt, capture, kill or attempt to harass, hunt, capture, or kill any marine mammal.

Except with respect to certain activities not pertinent here, the MMPA defines “harassment” as: any act of pursuit, torment, or annoyance, which (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).

Summary of Request

On October 30, 2024, NMFS received an application from Hilcorp requesting authorization for take of marine mammals incidental to oil and gas exploration, development, production, and decommissioning activities in Cook Inlet, Alaska. NMFS determined that the application was adequate and complete on February 10, 2024. The requested regulations would be valid for five years, from the date of issuance through December 31, 2029. Hilcorp plans to conduct necessary work, including tugs towing, holding, or positioning a jack-up rig, pile driving, and pipeline replacement/installation activities. The exposure of marine mammals occurring in the vicinity to underwater noise generated by the activities could result in incidental take, by Level A and Level B harassment. Therefore, Hilcorp requests authorization to incidentally take marine mammals.

Specified Activities

Hilcorp plans to continue oil and gas exploration, development, production, and decommissioning activities in Cook Inlet, Alaska, for the reasonably foreseeable future. The work expected to span five years includes up to 54 days of tugs towing, holding, or positioning a jack-up rig in support of production drilling at existing platforms in middle Cook Inlet and Trading Bay; up to 70 days of pile driving in support of production well development at the Tyonek platform in middle Cook Inlet; up to 6 days of tugs towing, holding, or positioning a jack-up rig and up to 18 days of pile driving in support of exploration drilling at two locations in the Middle Ground Shoal Unit in middle Cook Inlet and one location between the Anna and Bruce platforms on the northern border of Trading Bay; and up to 22 days of pipeline replacement/installation, involving either pipe pulling or anchor handling or a combination of both, at up to two locations in middle Cook Inlet and/or Trading Bay. Hilcorp requests take of marine mammals by Level B harassment for twelve marine mammal species (including Cook Inlet beluga whales (Delphinapterus leucas)), and take by Level A harassment of nine marine mammal species.

Information Solicited

Interested persons may submit information, suggestions, and comments concerning the Hilcorp's request (see ADDRESSES). NMFS will consider all information, suggestions, and comments related to the request during the development of proposed regulations governing the incidental taking of marine mammals by Hilcorp, if appropriate.

Dated: March 7, 2025.
Kimberly Damon-Randall
Director, Office of Protected Resources, National Marine Fisheries Service.

[FR Doc. 2025-03981 Filed 3-12-25; 8:45 am]

BILLING CODE 3510-22-P